DEPARTMENT OF THE TREASURY

United States Mint

Pricing for the 2018 Breast Cancer Awareness Commemorative Coin and Stamp Set

AGENCY: United States Mint, Department of the Treasury.

ACTION: Notice.

SUMMARY: The United States Mint is announcing pricing for the 2018 Breast Cancer Awareness Coin and Stamp Set as follows:

Product | Regular price
Coin and Stamp Set | $39.95

FOR FURTHER INFORMATION CONTACT: Rosa Matos, Program Manager, Numismatic and Bullion Directorate; United States Mint; 801 9th Street NW, Washington, DC 20220; or call 202-354-7500.

Authority: Public Law 114-148.

Dated: September 13, 2018.
David J. Ryder,
Director, United States Mint.

[FR Doc. 2018-20359 Filed 9-18-18; 8:45 am]

BILLING CODE 4810-37-P